DEPARTMENT OF ENERGY

Federal Energy Regulatory Commission

[Project No. 2334-056]

Essential Power Massachusetts, LLC; Nautilus Hydro, LLC; Notice of Application for Transfer of License and Soliciting Comments, Motions To Intervene, and Protests

On October 28, 2016, Essential Power Massachusetts, LLC (transferor) and Nautilus Hydro, LLC (transferee) filed an application for the transfer of license of the Gardners Falls Project No. 2334. The project is located on the Deerfield River in Franklin County, Massachusetts. The project does not occupy Federal lands.

The applicants seek Commission approval to transfer the license for the Gardners Falls Project from Essential Power Massachusetts, LLC to Nautilus Hydro, LLC.

Applicants Contact: For transferor and transferee: Mr. David Rosenstein, Vice President and General Counsel, Essential Power Massachusetts, LLC, 150 College Road West, Suite 300, Princeton, NJ 08540, Phone: 609-917-3904, Email: David.Rosenstein@essentialpowerllc.com and Ms. Julia S. Wood and Ms. Sharon L. White, Van Ness Feldman, LLP, 1050 Thomas Jefferson Street NW., Seventh Floor, Washington, DC 20007, Phone: 202-298-1800 and Emails: jsw@vnf.com and slw@vnf.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2334-056.

Dated: November 8, 2016.
Kimberly D. Bose,
Secretary.

[FR Doc. 2016-27453 Filed 11-15-16; 8:45 am]

BILLING CODE 6717-01-P